DEPARTMENT OF THE INTERIOR

Bureau of Land Management

[LLOR912000.L10600000.DF0000.15XL1109AF; HAG15-0032]

Notice of Intent To Establish the Southwest Oregon RAC, the Northwest Oregon RAC, and the Coastal Oregon RAC

AGENCY: Bureau of Land Management, Interior.

ACTION: Notice.

SUMMARY: The Bureau of Land Management (BLM) is publishing this notice in accordance with the Federal Land Policy and Management Act (FLPMA) and the Federal Advisory Committee Act (FACA). The BLM gives notice that the Secretary of the Interior is establishing the Southwest Oregon Resource Advisory Council (RAC), the Northwest Oregon RAC, and the Coastal Oregon RAC. These RACs will provide advice to the Secretary of the Interior concerning the planning and management of the public lands located in western Oregon's five BLM districts.

FOR FURTHER INFORMATION CONTACT: Stephen Baker, BLM Oregon RAC Lead, 1220 SW., 3rd Avenue, Portland, OR 97204, 503-808-6306. Persons who use a telecommunications device for the deaf (TDD) may call the Federal Information Relay Service (FIRS) at 1-800-877-8339 to leave a message or question for the above individual. The FIRS is available 24 hours a day, 7 days a week. Replies are provided during normal business hours.

SUPPLEMENTARY INFORMATION: The FLPMA directs the Secretary of the Interior to involve the public in planning and issues related to management of lands administered by the BLM. Section 309 of FLPMA (43 U.S.C. 1739) directs the Secretary to establish 10- to 15-member citizen-based RACs that are consistent with FACA. The rules governing RACs are found at 43 CFR Subpart 1784. As required by FACA, RAC membership must be balanced and representative of the various interests concerned with the management of public lands. These three new RACs will operate on the principle of collaborative decision making and strive for consensus before making official recommendations to the BLM. The RACs will operate under one set of Standard Operating Procedures and will be chartered by the Secretary of the Interior. Members of these three new RACs will be appointed by the Secretary to represent the following three interest groups:

Group 1—Persons Who:

1. Represent energy and mineral development (with a special emphasis on transportation or rights-of-way interests);

2. represent the commercial timber industry;

3. represent organized labor or non-timber forest product harvester groups;

4. represent developed outdoor recreation, off-highway vehicle users, or commercial recreation (with a special emphasis on commercial or recreation fishing); or

5. hold Federal grazing or other land permits or represent nonindustrial private forest land owners.

Group 2—Persons Who Represent:

1. Nationally recognized environmental organizations;

2. regionally or locally recognized environmental organizations;

3. dispersed recreational activities;

4. archaeological and historical interests; or

5. nationally or regionally recognized wild horse and burro interest groups, wildlife or hunting organizations, or watershed associations.

Group 3—Persons Who:

1. Hold state elected office;

2. hold county or local elected office;

3. represent Indian tribes within or adjacent to the area for which the Council is organized;

4. are school officials or teachers with knowledge in natural resource management or the natural sciences; or

5. represent the affected public-at-large and/or are employed by a state agency responsible for the management of natural resources, land or water.

Members will be appointed to staggered 3-year terms. All members serve at the discretion of the Secretary. A call for nominations to recruit new members will be held in 2015 once the RACs are established.

Authority: 43 CFR 1784.4-1.

Jerome E. Perez,
State Director, Oregon/Washington.

[FR Doc. 2014-28140 Filed 11-26-14; 8:45 am]

BILLING CODE 4310-33-P